Memorandum of May 10, 2013

Advancing Pay Equality in the Federal Government and Learning From Successful Practices

Memorandum for the Heads of Executive Departments and Agencies

Almost 50 years ago, when President John F. Kennedy signed the Equal Pay Act of 1963, women were paid 59 cents for every dollar paid to men. Today, women are paid 77 cents for every dollar paid to men. At the same time, nearly two-thirds of women are breadwinners or co-breadwinners for their families. Unjust pay disparities are a detriment to women, families, and our economy.

The Federal Government is the Nation's largest employer. It has a special responsibility to act as a model employer. While salary ranges in the Federal workforce are generally determined by law, the fixing of individual salaries and other types of compensation can be affected by the exercise of administrative discretion. Such discretion must be exercised in a transparent manner, using fair criteria and adhering to merit system principles, which dictate that equal pay should be provided for work of equal value.

In order to further understand how the practices of executive departments and agencies (agencies) affect the compensation of similarly situated men and women, and to promote gender pay equality in the Federal Government and more broadly, I hereby direct the following actions, pursuant to the authority vested in me by the Constitution and the laws of the United States:

Section 1. Government-wide Strategy for Advancing Pay Equality. Within 180 days of the date of this memorandum, the Director of the Office of Personnel Management (Director) shall submit to the President a Government-wide strategy to address any gender pay gap in the Federal workforce. This strategy shall include:

(a) analysis of whether changes to the General Schedule classification system would assist in addressing any gender pay gap;

(b) proposed guidance to agencies to promote greater transparency regarding starting salaries; and

(c) recommendations for additional administrative or legislative actions or studies that should be undertaken to narrow any gender pay gap.

Sec. 2. Agency Review of Pay and Promotion Policies and Practices. To facilitate the Director's development of a Government-wide strategy, each agency shall, within 90 days of the date of this memorandum, provide to the Office of Personnel Management (OPM) information on and an analysis of the following matters:

(a) all agency-specific policies and practices for setting starting salaries for new employees;

(b) all agency-specific policies and practices that may affect the salaries of individuals who are returning to the workplace after having taken extended time off from their careers (for example, those who served as full-time caregivers to children or other family members);

(c) all agency-specific policies and practices for evaluating individuals regarding promotions, particularly individuals who work part-time schedules (for example, those who serve as caregivers to children or other family members);

(d) any additional agency-specific policies or practices that may be affecting gender pay equality; and

(e) any best practices the agency has employed to improve gender pay equality.

OPM shall provide guidance to agencies with respect to this request for information and analysis, including its scope.

Sec. 3. General Provisions. (a) Nothing in this memorandum shall be construed to impair or otherwise affect:

(i) the authority granted by law or Executive Order to an agency, or the head thereof; or

(ii) the functions of the Director of the Office of Management and Budget relating to budgetary, administrative, or legislative proposals.

(b) This memorandum shall be implemented consistent with applicable law and subject to the availability of appropriations.

(c) This memorandum is not intended to, and does not, create any right or benefit, substantive or procedural, enforceable at law or in equity by any party against the United States, its departments, agencies, or entities, its officers, employees, or agents, or any other person.

The Director is hereby authorized and directed to publish this memorandum in the Federal Register.

THE WHITE HOUSE,

Washington, May 10, 2013.

[FR Doc. 2013-11761

Filed 5-14-13; 11:15 am]

Billing code 6325-01